DEPARTMENT OF ENERGY

Federal Energy Regulatory Commission

Combined Notice of Filings

Take notice that the Commission has received the following Natural Gas Pipeline Rate and Refund Report filings:

Docket Number: PR20-58-002.

Applicants: Black Hills/Kansas Gas Utility Company, LLC.

Description: Tariff filing per 284.123(b),(e)/: BHKG Substitute Statement of Rates Filing to be effective 4/16/2020 under PR20-58.

Filed Date: 6/24/2020.

Accession Number: 202006245111.

Comments/Protests Due: 5 p.m. ET 7/8/2020.

Docket Numbers: RP20-965-000.

Applicants: Iroquois Gas Transmission System, L.P.

Description: § 4(d) Rate Filing: 062320 Negotiated Rates—Direct Energy Business Marketing R-7465-08 to be effective 7/1/2020.

Filed Date: 6/23/20.

Accession Number: 20200623-5046.

Comments Due: 5 p.m. ET 7/6/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 25, 2020.
Nathaniel J. Davis, Sr.,
Deputy Secretary.

[FR Doc. 2020-14159 Filed 6-30-20; 8:45 am]

BILLING CODE 6717-01-P